DEPARTMENT OF COMMERCE

National Oceanic and Atmospheric Administration

Agency Information Collection Activities; Submission to the Office of Management and Budget (OMB) for Review and Approval; Comment Request; Alaska Crab Arbitration

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 19, 2023, during a 60-day comment period. This notice allows for an additional 30 days for public comments.

Agency: National Oceanic and Atmospheric Administration (NOAA), Commerce.

Title: Alaska Crab Arbitration.

OMB Control Number: 0648-0516.

Form Number(s): None.

Type of Request: Regular submission (extension of a current information collection).

Number of Respondents: 2.

Average Hours per Response: Annual Arbitration Organization Report: 6 hours; Cost Allocation Agreement: 16 hours.

Total Annual Burden Hours: 28 hours.

Needs and Uses: The National Marine Fisheries Service (NMFS), Alaska Regional Office, is requesting extension of a currently approved information collection for the Arbitration System for the Crab Rationalization Program.

The Crab Rationalization Program allocates Bering Sea and Aleutian Islands (BSAI) crab resources among harvesters, processors, and coastal communities. Under the Crab Rationalization Program, eligible License Limitation Program license holders were issued crab quota shares (QS), which are long term shares, based on their qualifying license histories. The QS yield annual individual fishing quota (IFQ) that is an exclusive harvest privilege for a portion of the total allowable catch. Processor quota shares (PQS) are long term shares issued to processors. The PQS yield annual individual processor quota (IPQ) that is an exclusive privilege to receive, for processing, a portion of the crab harvested with Class A IFQ.

This information collection for the Arbitration System is necessary for NMFS to manage the Crab Rationalization Program crab fisheries in the BSAI. This information collection is implemented under the Crab Rationalization Program and required by regulations at 50 CFR 680.20. NMFS requires that harvesters and processors abide by an Arbitration System established to stabilize prices and negotiations during the crab harvest season. The Arbitration System is necessary to reduce contention in price negotiations. The information collected is necessary for NMFS to verify the membership of the arbitration organizations and maintain the Arbitration System.

The Arbitration System was designed to fairly and equitably resolve price, delivery terms, performance standards, and other disputes in the event that IFQ and IPQ holders are unable to reach agreement on arbitration proceedings. The Arbitration System is also designed to minimize the potential for antitrust violations. The Arbitration System includes a provision for open negotiations among IPQ and IFQ holders, as well as various negotiation approaches, including a share matching approach, a lengthy season approach where parties may postpone binding arbitration until during the season, and a binding arbitration procedure to resolve price disputes between an IPQ holder and eligible IFQ holders. The Arbitration System also provides for dissemination of market information to facilitate negotiations, coordination of matching Class A IFQ held by harvesters to IPQ held by processors, and the opportunity to use the binding arbitration process to resolve terms of price and delivery. Certain aspects of the Arbitration System are required of catcher vessel owners who hold QS/IFQ and PQS/IPQ holders and operate regardless of whether participants in the fishery actually initiate binding arbitration in order to resolve terms of price or delivery.

This information collection contains five components of the Arbitration System that are submitted to NMFS. Four are submitted annually: the Annual Arbitration Organization Report, the Market Report, the Non-binding Price Formula Report, and the Cost Allocation Agreement. The Contract Arbitrator Report is submitted if any arbitrations occur within a fishery.

The Annual Arbitration Organization Report is compiled by each of the two arbitration organizations; one organization represents the processors, and the second represents the harvesters. This report includes information on the arbitration organization and its management personnel, the crab QS fisheries to which the report applies, the ownership interest and the QS/IFQ or PQS/IPQ held by each member; and the arbitration process.

The Cost Allocation Agreement provides combined shared arbitration accounting costs. Federal regulations for the Crab Rationalization Program require that the crab arbitration costs are shared equally between IPQ holders and Class A IFQ holders—processors pay half and fishermen pay half.

The arbitration organizations use contracted parties to meet the requirements of the Market Report, Nonbinding Price Formula Report, and Contractor Arbitrator Report.

The Non-binding Price Formula Report is a pre-season report that is designed to serve as a starting point for negotiations between fishermen and processors, or as a starting point for an arbitrator in evaluating offers in an arbitration process. This report documents how each formula was developed.

The Market Report provides an analysis of the market for products of a specific crab fishery and reports on activities occurring within three months prior to its generation. The purpose of this report is to provide background information on each crab fishery, the products generated by each fishery, and position of those products in the marketplace; discuss the historical division of wholesale revenue; and provide the methods for predicting wholesale prices before the fishery occurs.

The Contract Arbitrator Report documents arbitration proceedings if they occur within a fishery.

Affected Public: Individuals or households; Business or other for-profit organizations.

Frequency: Annually; As needed.

Respondent's Obligation: Mandatory.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0516.

Sheleen Dumas,
Department PRA Clearance Officer, Office of the Under Secretary for Economic Affairs, Commerce Department.

[FR Doc. 2024-02508 Filed 2-6-24; 8:45 am]

BILLING CODE 3510-22-P